ENVIRONMENTAL PROTECTION AGENCY

[FRL-7795-3]

Science Advisory Board Staff Office; Request for Nominations for the Science Advisory Board's Consultation on EPA's Regional Vulnerability Assessment Methods for Multi-Scale Decision-Making

AGENCY: Environmental Protection Agency (EPA).

ACTION: Notice.

SUMMARY: The EPA Science Advisory Board (SAB) Staff Office is requesting nominations to augment expertise on the SAB Ecological Processes and Effects Committee for a panel to provide consultation to EPA on the Regional Vulnerability Assessment (ReVA) integration tool and underlying methods for multi-scale decision making. ReVA is an approach to conducting comprehensive regional-scale environmental assessments that can inform decision-makers about anticipated environmental vulnerabilities. A suite of predictive tools and methods is incorporated into ReVA.

DATES: Nominations should be submitted by August 20, 2004 per the instructions below.

FOR FURTHER INFORMATION CONTACT: Any member of the public wishing further information regarding this Request for Nominations may contact Dr. Thomas Armitage, Designated Federal Officer (DFO), via telephone/voice mail at (202) 343-9995; via e-mail at armitage.thomas@epa.gov; or at the U.S. EPA Science Advisory Board (1400F), 1200 Pennsylvania Ave., NW., Washington, DC 20460. General information about the SAB can be found in the SAB web site at http://www.epa.gov/sab.

SUPPLEMENTARY INFORMATION:

Background

The EPA Office of Research and Development has requested a consultation with the SAB to review the methods and predictive tools used in ReVA, and the effectiveness of the ReVA integration toolkit (the ReVA web-based Environmental Decision Toolkit or EDT) for communicating risk and uncertainty to clients and users. EPA's ReVA Program develops approaches to conducting comprehensive, regional-scale environmental assessments that can inform decision-makers about the magnitude, extent, distribution, and uncertainty of current and anticipated environmental vulnerabilities. In the context of ReVA, environmental vulnerabilities are risks of serious degradation of ecological goods and services that are valued by society. ReVA approaches make use of existing spatial data to depict: (1) The current patterns of condition and distribution of resources and human demographics, (2) variability in sensitivity of resources and human populations to various stresses, and (3) estimated spatial distribution of stressors. Future vulnerability estimates derived by ReVA include syntheses of: (1) modeled estimates of ecological drivers of change (i.e. changes in pollution and pollutants, resource extraction, spread of non-indigenous species, land use change, and climate change) and resulting changes in stressor patterns; and (2) changes in resource sensitivity and projected changes in human demographics. The predictive tools in ReVA provide decision-makers with information about current and future cumulative stresses and spatially-explicit identification of anticipated environmental problems. These predictive tools can also be used to illustrate the trade-offs associated with alternative environmental and economic policies in the context of dynamic stakeholder values. ReVA relies heavily on the use of geographic information system technologies and quantitative integration and assessment methods to develop useful measures of a suite of decision-criteria for decision-makers at multiple scales.

The Science Advisory Board is a chartered Federal advisory committee, which reports directly to the EPA Administrator. The panel being formed will provide advice to the Agency, asa part of the SAB's mission to provide independent scientific and technical advice, consultation, and recommendations to the EPA Administrator on the technical bases for EPA positions and regulations. The Panel will provide advice to the EPA through the Chartered SAB. The Panel will comply with the provisions of the Federal Advisory Committee Act and all appropriate SAB procedural policies, including the SAB process for panel formation described in the Overview of the Panel Formation Process at the Environmental Protection Agency Science Advisory Board, which can be found on the SAB's Web site at: http://www.epa.gov/sab/pdf/ec0210.pdf. The work of this panel includes reviewing background material, and participating in a two-day face-to-face meeting for the consultation.

Tentative Charge to the Panel

EPA's Office of Research and Development seeks the opportunity for a consultation with the SAB to receive comments on: (1) The scientific validity of the methods and predictive tools used in ReVA, (2) the effectiveness of the ReVA integration toolkit for communicating risk and uncertainty to users and clients, and (3) the applicability of ReVA tools and methods for targeting current and future environmental vulnerabilities and making decisions at local and regional scales.

Request for Nominations

The SAB Staff Office is requesting nominations to augment expertise on the SAB Ecological Processes and Effects Committee to form an SAB panel for a consultation on the ReVA methods for multi-scale decision making. To augment expertise on the Ecological Processes and Effects Committee, the SAB Staff Office is seeking individuals who have expertise in one or more of the following areas: (a) Decision science and environmental decision-making; (b) landscape ecology; (c) analysis of land use change; (d) ecology and the use of geographic information system technology to analyze environmental stressors and effects; (e) ecological risk assessment; and (f) environmental statistics.

Process and Deadline for Submitting Nominations

Any interested person or organization may nominate individuals qualified in the areas of expertise described above to serve on the Subcommittee. Nominations should be submitted in electronic format through the Form for Nominating Individuals to Panels of the EPA Science Advisory Board provided on the SAB Web site, http://www.epa.gov/sab. The form can be accessed through a link on the blue navigational bar on the SAB Web site, http://www.epa.gov/sab. To be considered, all nominations must include the information required on that form.

Anyone who is unable to submit nominations using this form, and any questions concerning any aspects of the nomination process may contact the DFO, as indicated above in this notice. Nominations should be submitted in time to arrive no later than August 20, 2004. Any questions concerning either this process or any other aspects of this notice should be directed to the DFO.

The SAB will acknowledge receipt of the nomination and inform nominators of the panel selected. From the nominees identified by respondents to this Federal Register notice (termed the “Widecast”), SAB Staff will develop a smaller subset (known as the “Short List”) for more detailed consideration. Criteria used by the SAB Staff in developing this Short List are given at the end of the following paragraph. The Short List will be posted on the SAB Web site at: http://www.epa.gov/sab, and will include, for each candidate, the nominee's name and biosketch. Public comments on the Short List will be accepted for 21 calendar days. During this comment period, the public will be requested to provide information, analysis or other documentation on nominees that the SAB Staff should consider in evaluating candidates for the Panel.

For the SAB, a balanced review panel (i.e., committee, subcommittee, or panel) is characterized by inclusion of candidates who possess the necessary domains of knowledge, the relevant scientific perspectives (which, among other factors, can be influenced by work history and affiliation), and the collective breadth of experience to adequately address the charge. Public responses to the Short List candidates will be considered in the selection of the panel, along with information provided by candidates and information gathered by SAB Staff independently of the background of each candidate (e.g., financial disclosure information and computer searches to evaluate a nominee's prior involvement with the topic under review). Specific criteria to be used in evaluation of an individual subcommittee member include: (a) Scientific and/or technical expertise, knowledge, and experience (primary factors); (b) absence of financial conflicts of interest; (c) scientific credibility and impartiality; (d) availability and willingness to serve; and (e) ability to work constructively and effectively in committees.

Short List candidates will also be required to fill-out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

In addition to reviewing background material, Panel members will be asked to attend one public face-to-face meeting over the anticipated course of the advisory activity.

Dated: July 26, 2004.
Vanessa T. Vu,
Director, EPA Science Advisory Board Staff Office.

[FR Doc. 04-17377 Filed 7-29-04; 8:45 am]

BILLING CODE 6560-50-P